DEPARTMENT OF THE INTERIOR

Bureau of Land Management

[LLNM922000 L13200000.EL0000; NMNM 124051]

Notice of Invitation To Participate; Coal Exploration License Application NMNM-124051, New Mexico

AGENCY: Bureau of Land Management, Interior.

ACTION: Notice.

SUMMARY: Pursuant to the Mineral Leasing Act of 1920, as amended by the Federal Coal Leasing Amendments Act of 1976, and to Bureau of Land Management (BLM) regulations, all interested parties are invited to participate with the BHP-Billiton/San Juan Coal Company, on a pro rata cost-sharing basis, in a program for the exploration of coal deposits owned by the United States of America in lands located in San Juan County, New Mexico.

DATES: This notice of invitation will be published in The (Farmington) Daily Times newspaper once each week for 2 consecutive weeks beginning the week of August 22, 2011 and in the Federal Register. Any party electing to participate in this exploration program must send written notice referencing the Exploration License Application serial number NMNM 124051 to both the BLM and BHP-Billiton/San Juan Coal Company as provided in the ADDRESSES section below no later than 30 days after publication of this notice in the Federal Register or 10 calendar days after the last publication of this notice in The Daily Times newspaper, whichever is later.

ADDRESSES: Copies of the proposed exploration plan (case file number NMNM-124051) are available for review from 9 a.m. to 4 p.m., Monday through Friday: BLM, New Mexico State Office, 301 Dinosaur Trail, Santa Fe, New Mexico; and BLM, Farmington Field Office, 1235 La Plata Highway, Suite A, Farmington, New Mexico. The written notice should be sent to the following addresses: State Director, BLM, New Mexico State Office, P.O. Box 27115, Santa Fe, New Mexico 87502-0115 and BHP-Billiton/San Juan Coal Company, P.O. Box 561, Waterflow, New Mexico 87421.

FOR FURTHER INFORMATION CONTACT: Elizabeth Rivera at (505) 954-2162, lrivera@blm.gov; or Powell King at (505) 954-2160, pking@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose of the exploration program is to gain structural and quality information about the coal. The BLM regulations at 43 CFR 3410 require the publication of an invitation to participate in the coal exploration in the Federal Register. The Federal coal resources included in the exploration license application are located in the following described lands in San Juan County, New Mexico, and are described as follows:

NM Principal Meridian

T. 30 N., R. 14 W.,

Sec. 7, All;

Sec. 8, All.

Containing 1,280 acres, more or less.

The proposed exploration program is fully described in, and will be conducted pursuant to, an exploration plan to be approved by the BLM.

Authority: 43 CFR 3410.2-1(c)(1).

Michael Tupper,
Acting Deputy State Director, Minerals.

[FR Doc. 2011-20810 Filed 8-15-11; 8:45 am]

BILLING CODE 4310-FB-P